DEPARTMENT OF HOUSING AND URBAN DEVELOPMENT

[Docket No. FR-5700-FA-04]

Announcement of Funding Awards for Lead-Based Paint Hazard Control, and Lead Hazard Reduction Demonstration Grant Programs for Fiscal Year (FY) 2013

AGENCY: Office of Healthy Homes and Lead Hazard Control, HUD.

ACTION: Announcement of funding awards.

SUMMARY: In accordance with Section 102(a)(4)(C) of the Department of Housing and Urban Development Reform Act of 1989, this announcement notifies the public of funding decisions made by the Department in competitions for funding under the Office of Healthy Homes and Lead Hazard Control (OHHLHC) Lead-Based Paint Hazard Control, and Lead Hazard Reduction Demonstration Grant Program Notices of Funding Availability. This announcement contains the name and address of the award recipients and the amounts of awards under the Consolidated and Further Appropriations Act, 2013, and prior-year appropriations.

FOR FURTHER INFORMATION CONTACT: Matthew E. Ammon, Department of Housing and Urban Development, Office of Healthy Homes and Lead Hazard Control, Room 8236, 451 Seventh Street SW., Washington, DC 20410, telephone 202-402-4337. Hearing- and speech-impaired persons may access the number above via TTY by calling the toll free Federal Relay Service at 1-800-877-8339.

SUPPLEMENTARY INFORMATION: HUD announced the FY 2013 awards on May 23, 2013. These awards were the result of competitions posted on the Internet at Grants.gov on December 3, 2012, and amended on January 18, 2013, for the Lead Based Paint Hazard Control and the Lead Hazard Reduction Demonstration Programs (FR-5700-N-04). The purpose of the competitions was to award funding for grants for the Office of Healthy Homes and Lead Hazard Control Grant Programs.

Applications were scored and selected on the basis of selection criteria contained in this Notice. A total of $95,395,943 was awarded under the Consolidated and Further Continuing Appropriations Act, 2013 (Pub. L. 113-6, approved May 13, 2013) and prior year appropriations. In accordance with Section 102(a)(4)(C) of the Department of Housing and Urban Development Reform Act of 1989 (103 Stat. 1987; 42 U.S.C. 3545), the Department is publishing the names, addresses, and the amount of these awards as follows:

1. Lead Based Paint Hazard Control Program

A total of $55,916,825.50 was awarded to 25 grantees for the Lead Based Paint Hazard Control Grant Program and an additional $4,475,885 was awarded to 23 of the 25 grantees for the Healthy Homes Initiative under the Consolidated Appropriations Act, 2012: County of Rock, 51 South Main Street, Janesville, WI 53545-3951, $2,500,000; City of Duluth, 411 West First Street, Room 407, Duluth, MN 55802-1197, $2,481,395; City of Moline, 619 16 Street, Moline, IL 61265-2121, $2,500,000; City of New London, 111 Union Street, New London, CT 06320-6634, $2,020,956; Louisville/Jefferson County Metro Government, 527 W. Jefferson Street, Louisville, KY 40202-2814, $2,402,849.50; City of Bridgeport, 999 Broad Street, Bridgeport, CT 06604-4060, $2,499,960; City of Henderson, P.O. Box 95050, 240 Water Street, Henderson, NV 89009-5050, $2,293,701; City of Knoxville, Tennessee, 400 Main Street, Knoxville, TN 37902-2405, $2,500,000; City of Boston, 26 Court Street, Boston, MA 02108-2501, $2,500,000; City of Austin, 1000 E. 11th Street, Suite 200, Austin, TX 78702-1945, $2,500,000; City of Winston- Salem, 100 E. First Street, Suite 423, Winston- Salem, NC 27101-4000, $2,500,000; State of Ohio—Ohio Department of Health, 246 North High Street, Columbus, OH 43215-2412, $2,500,000; County of Orange, 255 Main Street, Goshen, NY 10924-1619, $2,500,000; St. Clair County Intergovernmental Grants Department, 19 Public Square Suite 200, Belleville, IL 62220-1695, $1,635,563; Shelby County Government, 1075 Mullins Station Road, Memphis, TN 38134-7730, $2,300,000; Summit County Combined General Health District, 1100 Graham Road Circle, Stow, OH 44224-2992, $2,500,000; Salt Lake County, 2001 South State Street, Salt Lake City, UT 84190-2770, $2,500,000; State of Tennessee, 401 Church Street, L&C Tower 1st Floor, Nashville, TN 37243-1531, $2,500,000; City of Cedar Rapids, 101 First Street SE., Cedar Rapids, IA 52401-1205, $2,458,286; City of Lawrence, 200 Common Street, Lawrence, MA 01840-1515, $2,500,000; Mahoning County, 21 West Boardman Street, Youngstown, OH 44503-1427, $2,500,000; City of Lowell, 50 Arcand Drive, Lowell, MA 01852-1025, $2,500,000; City of Lynn Massachusetts, 3 City Hall Square, Lynn, MA 01901-1019, $2,500,000; Vermont Housing And Conservation Board, 58 East State Street, Montpelier, VT 05602-3044, $2,300,000; Rhode Island Housing and Mortgage Finance Corporation, 44 Washington Street, Providence, RI 02903-1721, $2,500,000.

2. Lead Hazard Reduction Demonstration Grant Program

A total of $35,003,232.95 was awarded to 12 grantees for the Lead Hazard Reduction Demonstration Grant Program under the Consolidated Appropriations Act, 2013: Redevelopment Authority of the City of Erie, 626 State Street, Room 107, Erie, PA 16501-1128, $3,000,000; City of Portland, 1120 SW. Fifth Avenue, Room 1250, Portland, OR 97204-1912, $3,000,000; Winnebago County Health Department, 401 Division Street, Rockford, IL 61104-2014, $2,995,529.64; City and County of San Francisco, Mayor Office of Housing, 1 South Van Ness Avenue, 5th Floor, San Francisco, CA 94103-1267, $3,000,000; Hennepin County, 701 4th Avenue, Suite 400, Minneapolis, MN 55415-1843, $3,000,000; Baltimore County, 400 Washington Avenue, Towson, MD 21204-0000, $3,000,000; Houston Department of Health and Human Services, 800 North Stadium Drive, 2nd Floor, Houston, TX 77054-1823, $3,000,000; City of Memphis, Division of Housing and Community Development, 701 N. Main Street, Memphis, TN 38107-2311, $3,000,000; City of San Antonio, 1400 South Flores, San Antonio, TX 78204-1617, $3,000,000; Malden Redevelopment Authority, City of Malden, 200 Pleasant Street, Malden, MA 02148-4829, $3,000,000; State of Connecticut Department of Social Services, 25 Sigourney Street, Hartford, CT 06106-5041, $3,000,000; City of Somerville, 93 Highland Avenue, Somerville, MA 02143-1740, $2,007,703.31.

Dated: June 21, 2013.
Jon L. Gant,
Director, Office of Healthy Homes and Lead Hazard Control.

[FR Doc. 2013-15431 Filed 6-26-13; 8:45 am]

BILLING CODE 4210-67-P